DEPARTMENT OF THE INTERIOR

Fish and Wildlife Service

Availability of a Draft National Management Plan for the Genus Eriocheir

AGENCY: Fish and Wildlife Service, Interior.

ACTION: Notice of document availability and request for comments.

SUMMARY: This notice announces the availability of a Draft National Management Plan for the Genus Eriocheir for public review and comment. The document was prepared by the Chinese Mitten Crab Control Working Group of the Aquatic Nuisance Species Task Force, as authorized by section 4722(c) of the Nonindigenous Aquatic Nuisance Prevention and Control Act (NANPCA) of 1990 (16 U.S.C. 1701 et seq.). Comments received will be considered in preparing the final National Management Plan for the Genus Eriocheir, which will become the basis for cooperative and integrated management of the Chinese Mitten Crab, Eriocheir sinensis, with the involvement of Federal, State, Tribal, and local resource agencies.

DATES: Comments on the draft National Management Plan for the Genus Eriocheir should be received by March 31, 2003.

ADDRESSES: Written responses and requests for copies of the document should be mailed to Chair, Chinese Mitten Crab Control Working Group, U.S. Fish and Wildlife Service, Sacramento/San Joaquin Estuary Fishery Resources Office (SSJEFRO), 4001 North Wilson Way, Stockton, CA 95205-2486.

FOR FURTHER INFORMATION CONTACT: Kim Webb, Chair, Chinese Mitten Crab Control Working Group, at 209-946-6400 ext. 311 or by e-mail at kim_webb@fws.gov or Sharon Gross, Executive Secretary, Aquatic Nuisance Species Task Force at 703-358-2308 or by e-mail at sharon_gross@fws.gov.

SUPPLEMENTARY INFORMATION: The Chinese mitten crab, Eriocheir sinensis, is a recently introduced species to the San Francisco Estuary and associated watershed. The most probable mechanisms of introduction to the estuary were deliberate release to establish a fishery and/or accidental release via ballast water. This species is native to coastal rivers and estuaries of Korea and China along the Yellow Sea. The Chinese mitten crab is presently well-established throughout the San Francisco Bay, the Sacramento-San Joaquin Delta, and the mainstems of the major rivers and tributaries that flow into the estuary. Both the distribution and population size of this species continue to rapidly increase.

The establishment of this species in North America is of concern because the crab is considered a pest in northern Europe. The crab was accidentally introduced to Germany in the early 1900s, proliferated and spread to many northern European rivers and estuaries, where it impacted local fisheries and levee integrity. Once mitten crabs become established, there may be numerous negative impacts. The following description of negative impacts has been developed from a review of the literature and from experience with the California crab populations:

• Levees and/or banks are weakened due to mitten crab burrowing, leading to increased maintenance/repair requirements, slumping and/or failure of banks and/or levees. The tidal marsh and the mouth of San Francisquito Creek has experienced enhanced erosion where horizontal mitten crab burrows cut into the marsh sediments.

• Mitten crab feeding behavior contributes to a decrease in vegetation in agriculture fields and/or natural habitats.

• Fish in fish salvage or fish passage operations face increased mortality due to the presence of mitten crab in the facilities. At peak times of fall migration period, estimated fish mortality attributed to the crabs at the federal facility at Tracey is reported to be 98-99%. The economic impact incurred to the fish salvage facilities amounted to over one million dollars.

• Water diversion/industrial use activities are subject to interference due to crabs blocking or clogging systems.

• Recreational and commercial fishing are subject to interference and reductions in opportunities/efficiencies due to blocking/clogging of traps/nets, bait stealing and/or damage to gear or catch.

• The impacts of predation, competition, habitat alteration and/or foodweb disturbance on biotic populations leads to a decrease in biotic populations and/or biodiversity, and a change in the community structure.

• Public and wildlife health risks arising from potential bioaccumulation and biomagnification of contaminants, the transfer of disease, or spread of parasites leads to a decrease in public/wildlife health. These risks are escalated both by direct consumption of the crab or indirectly by consumption/association with animals that prey on or associate with the crab.

In recognition of these threats, the California Department of Fish and Game added the genus Eriocheir to its List of Prohibited Species (Section 671, Title 14) in 1986. The U.S. Fish and Wildlife Service added the genus to its injurious wildlife list under the Lacey Act in 1989 (50 CFR 16.13). The ANS Task Force has followed the status of the mitten crab invasion of California since early 1998 and determined that, under the authority of NANPCA, the development of a cooperative and comprehensive management plan for the genus Eriocheir was appropriate and necessary. The U.S. Fish and Wildlife Service supported a literature search and summary, organized a public meeting and workshop, and developed a report in 1999 to the ANS Task Force entitled “The Chinese Mitten Crab Invasion of California: A Draft Management Plan for the Genus Eriocheir.” In 2001 the ANS Task Force developed a Mitten Crab Control Working Group (under the authority of NANPCA) and charged the committee with the task to review and edit the draft plan. The committee submitted a revised version of the draft plan to the ANS Task Force for review and approval in 2002.

The purpose of the draft management plan is to assist the ANS Task Force and other interested parties with a determination of appropriate responses to the Chinese mitten crab invasion of the San Francisco Bay and estuary, as well as the threat to other estuaries. The plan addresses the information and initial recommendations as well as the opinions of committee members regarding priorities for implementation of management actions. Currently, there is not enough information about this crab to implement many management actions with a high degree of confidence; therefore, a vital component of this program is adaptive management. As implementation moves forward, results of new findings will be incorporated into future planning. Continual integration of findings will require flexibility in adoption of many program components, but it will greatly enhance the success of the program by allowing decisions to be based on more complete scientific information.

The goal of the draft National Plan is to prevent or delay the introduction and spread of Eriocheir species to new areas and reduce the negative impacts of existing populations.

The draft plan has identified the following four primary objectives: (1) Preventing introductions and spread; (2) detecting new populations and monitoring existing populations; (3) reducing negative impacts; and (4) developing strategies and methods for population control and management. Elements of research, outreach and management pertain to each of these objectives.

The draft plan has outlined actions not only to minimize further impacts in California, but to also prevent invasions in other ecosystems. Due to reports of crab sightings and the susceptibility of these regions, the Columbia River, Mississippi River, Hudson River, and St. Lawrence River are considered areas that may soon face the same type of invasion that San Francisco Bay has experienced. Without the implementation of proactive efforts to prevent new introductions and spread from California, control and management activities will likely be required in numerous locations throughout the country in the future, making management efforts even more complex and expensive. Importantly, while immediate actions are warranted in the draft plan, additional biological information is also needed to allow development of a theoretically based management plan that will allow us to minimize negative impacts on the very resources we hope to protect.

The draft National Management Plan for the Genus Eriocheir is available on the ANS Task Force Web site (http://www.anstaskforce.gov) You may also request copies of the draft plan by calling or writing the person listed under FOR FURTHER INFORMATION CONTACT.

Dated: January 21, 2003.
Everett Wilson,
Acting Co-Chair, Aquatic Nuisance Species Task Force, Assistant Director—Fisheries and Habitat Conservation.

[FR Doc. 03-3745 Filed 2-13-03; 8:45 am]

BILLING CODE 4310-55-M